DEPARTMENT OF TRANSPORTATION

Coast Guard

33 CFR Part 117

[CGD08-01-018]

Drawbridge Operating Regulation; Inner Harbor Navigation Canal, LA

AGENCY: Coast Guard, DOT.

ACTION: Notice of temporary deviation from regulations.

SUMMARY: The Commander, Eighth Coast Guard District, has issued a temporary deviation from the regulation governing the operation of the Florida Avenue bascule span drawbridge across the Inner Harbor Navigation Canal, mile 1.7 at New Orleans, Orleans Parish, Louisiana. This deviation allows the draw of the Florida Avenue bascule span drawbridge to remain closed to navigation daily from 6:45 a.m. until 12:15 p.m. and from 1:15 p.m. until 6:45 p.m. from October 15, 2001 through November 28, 2001. This temporary deviation will allow for replacement of the damaged fender system, an extensive but necessary maintenance operation. Presently, the draw opens on signal at all times.

DATES: This deviation is effective from 6:45 a.m. on Monday, October 15, 2001 until 6:45 p.m. on Wednesday, November 28, 2001.

ADDRESSES: Unless otherwise indicated, documents referred to in this notice are available for inspection or copying at the office of the Eighth Coast Guard District, Bridge Administration Branch, Commander (obc), 501 Magazine Street, New Orleans, Louisiana, 70130-3396. The Bridge Administration Branch maintains the public docket for this temporary deviation.

FOR FURTHER INFORMATION CONTACT: Phil Johnson, Bridge Administration Branch, telephone (504) 589-2965.

SUPPLEMENTARY INFORMATION: The Florida Avenue bascule span drawbridge across the Inner Harbor Navigation Canal, mile 1.7, in New Orleans, Orleans Parish, Louisiana, has a vertical clearance of one foot above mean high water in the closed-to-navigation position and unlimited clearance in the open-to-navigation position. Navigation on the waterway consists of tugs with tows small ships, fishing vessels, sailing vessels, and other recreational craft. The Board of Commissioners of the Port of New Orleans requested a temporary deviation for the operation of the drawbridge to accommodate maintenance work, involving removing portions of the existing damaged fender system, driving new pilings and replacing the timbers. This work is essential for continued safe transit of vessels through the bridge.

This deviation allows the draw of the Florida Avenue bascule span drawbridge to remain closed to navigation daily from 6:45 a.m. until 12:15 p.m. and from 1:15 p.m. until 6:45 p.m. from October 15, 2001 through November 28, 2001. In the event of an approaching tropical storm or hurricane, the draw will return to normal operation within 12 hours notice from the Coast Guard.

Dated: July 10, 2001.
Roy J. Casto,
Rear Admiral, U.S. Coast Guard, Commander, Eighth Coast Guard District.

[FR Doc. 01-18245 Filed 7-20-01; 8:45 am]

BILLING CODE 4910-15-U